DEPARTMENT OF TRANSPORTATION

Federal Aviation Administration

Public Notice for a Change in Use of Aeronautical Property at the Acadiana Regional Airport, New Iberia, Louisiana

AGENCY: Federal Aviation Administration (FAA), DOT.

ACTION: Notice of request for a change in designation of on-airport property federally conveyed, as a result of the Surplus Property Act of 1944, from aeronautical to non-aeronautical use.

SUMMARY: The FAA is requesting public comment on the Iberia Parish Airport Authority's proposal to change 233 acres of airport property at Acadiana Regional Airport in New Iberia, Louisiana from aeronautical to non-aeronautical use. This acreage was federally conveyed through the Surplus Property Act of 1944.

DATES: Comments must be received on or before November 1, 2023.

ADDRESSES: Comments on this application may be mailed or delivered to the FAA at the following address: Mr. Justin Barker, Manager, Federal Aviation Administration, Southwest Region, Airports Division, Louisiana/New Mexico Airports Development Office, ASW-640, Fort Worth, Texas 76177.

In addition, one copy of any comments submitted to the FAA must be mailed or delivered to Mr. Maurice Songy, Airport Executive Director, at the following address: 1404 Hangar Drive, New Iberia, LA 70560.

FOR FURTHER INFORMATION CONTACT: Ms. Haley Hood, Program Manager, Federal Aviation Administration, Louisiana/New Mexico Airports Development Office, ASW-640, 10101 Hillwood Parkway, Fort Worth, Texas 76177, Telephone: (817) 222-5522, Email: haley.e.hood@faa.gov, Fax: (817) 222-5218.

SUPPLEMENTARY INFORMATION: In accordance with 49 U.S.C 47107(h), this notice is required to be published in the Federal Register 30 days before modifying the land-use assurance that requires the property to be used for an aeronautical purpose.

The following is a brief overview of the request:

The Iberia Parish Airport Authority requests portions of parcels 2 and 4B (as shown on the Exhibit A) totaling 233 acres, be released for non-aeronautical use. The proposed lease includes a solar manufacturing facility. Historic parcel 2 was acquired on May 6, 1968 and historic parcel 4B on February 9, 1970 under the Surplus Property Act of 1944. The proposed lease area is located north of NW Bypass Highway,east of Leon Landry Road,west of West Admiral Doyle Drive, south of Fox Road, and southeast of the Terminal Area. The Airport Authority will lease this property to grow airport revenues as well as the economy. The purpose of this request is to permanently change the designation of the property given there is no potential for future aviation use, as demonstrated by the Airport Layout Plan. Subsequent to the implementation of the proposed redesignation, rents received by the airport from this property must be used in accordance with FAA's Policy and Procedures Concerning the Use of Airport Revenue, published in the Federal Register on February 16, 1999.

Any person may inspect the request by appointment at the FAA office address listed above. Interested persons are invited to comment. All comments will be considered by the FAA to extent practicable.

Issued in Fort Worth, Texas.
Ignacio Flores,
Director, Office of Airports Southwest Region.

[FR Doc. 2023-21150 Filed 9-29-23; 8:45 am]

BILLING CODE P